DEPARTMENT OF HOUSING AND URBAN DEVELOPMENT

[Docket No. FR-5487-N-07]

Notice of Proposed Information Collection for Public Comment; Public Housing Inventory Removal Application

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: May 24, 2011.

ADDRESSES: Interested persons are invited to submit comments regarding this proposal. Comments should refer to the proposal by name/or OMB Control number and should be sent to: Colette Pollard., Departmental Reports Management Officer, QDAM, Department of Housing and Urban Development, 451 7th Street, SW., Room 4160, Washington, DC 20410-5000; telephone 202.402.3400 (this is not a toll-free number) or e-mail Ms. Pollard at Colette_Pollard@hud.gov. Persons with hearing or speech impairments may access this number through TTY by calling the toll-free Federal Information Relay Service at (800) 877-8339. (Other than the HUD USER information line and TTY numbers, telephone numbers are not toll-free.)

FOR FURTHER INFORMATION CONTACT: Arlette Mussington, Office of Policy, Programs and Legislative Initiatives, PIH, Department of Housing and Urban Development, 451 7th Street, SW., (L'Enfant Plaza, Room 2206), Washington, DC 20410; telephone 202-402-4109, (this is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public Housing Inventory Removal Application.

OMB Control Number: 2577-0075.

Description of the need for the information and proposed use. This collection of information is an extension to the information collection under Paperwork Reduction Act Submission (PRA) 2577-0075 under ICR Reference Number 200707-2577-004 that was approved by OMB on August 15, 2008. This information is needed to implement statutes and regulations concerning what a PHA must submit to HUD in order to receive HUD approval to remove public housing property under Sections 18, 22, 33 of the U.S. Housing Act of 1937, as well as other applicable regulations. For instance, 24 CFR 970.7 specifically provides what documentation a Public Housing Agency (PHA) must submit to HUD in order to receive HUD approval of a request for demolition and/or disposition action. This information collection requests that documentation. HUD will use this information to review document submissions for compliance with all applicable statutes and regulations.

Agency form number, if applicable: HUD-52860, HUD-52860-B, HUD-52860-C, HUD-52860-D, HUD-52860-E, HUD-52860-F.

Members of affected public: Public housing agencies.

Estimation of the total number of hours needed to prepare the information collection including number of respondents: The estimated number of respondents is 851 PHAs that submit an inventory removal application. The total reporting burden is 6,010 hours.

Status of the proposed information collection: Extension of a currently approved collection

Status of the proposed information collection: Extension to currently approved collection.

Authority: Section 3506 of the Paperwork Reduction Act of 1995, 44 U.S.C. Chapter 35, as amended.

Dated: March 17, 2011.
Merrie Nichols-Dixon,
Acting Deputy Assistant Secretary for Office of Policy, Programs, and Legislative Initiatives.

[FR Doc. 2011-7015 Filed 3-24-11; 8:45 am]

BILLING CODE 4210-67-P